DEPARTMENT OF DEFENSE

Office of the Secretary

Department of Defense Military Family Readiness Council; Notice of Federal Advisory Committee Meeting; Amendment

AGENCY: Under Secretary of Defense for Personnel and Readiness, Department of Defense.

ACTION: Notice of meeting; amendment.

SUMMARY: On Friday, March 17, 2017 (82 FR 14211-14212), the Department of Defense published a notice to announce a Federal Advisory Committee meeting of the Department of Defense Military Family Readiness Council (MFRC) to be held on April 27, 2017. Subsequent to the publication of this notice, the meeting purpose statement and agenda items changed. All other information in the March 17, 2017 notice remains the same.

DATES: Open to the public Thursday, April 27, 2017 from 1:00 p.m. to 3:00 p.m.

ADDRESSES: Pentagon Library & Conference Center, Room B6. Escorts will be provided from the Pentagon Visitors Center waiting area (Pentagon Metro entrance) upon request.

FOR FURTHER INFORMATION CONTACT: Ms. Melody McDonald or Dr. Randy Eltringham, Office of the Deputy Assistant Secretary of Defense (Military Community & Family Policy), Office of Family Readiness Policy, 4800 Mark Center Drive, Alexandria, VA 22350-2300, Room 3G15. Telephones (571) 372-0880; (571) 372-5315 or email: OSD Pentagon OUSD P-R Mailbox Family Readiness Council, osd.pentagon.ousd-p-r.mbx.family-readiness-council@mail.mil.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of this meeting is to receive information related to community collaboratives that connect servicemembers and their families to the information, resources and support services they need throughout their mobile military lifecycle.

Agenda

Welcome & Administrative Remarks.

Making Military Family Connections through High Tech-High Touch Community Collaboratives.

Minnesota's Beyond the Yellow Ribbon Program: Support for the National Guard and Reserve.

Military OneSource: Creating an Integrated I&R-Counseling System to Build Community Capacity to Serve.

Best Practice Collaboratives with Military Support Organizations.

Military Service Best Practice Spotlights: Demonstrating the Positive Impacts of Sharing Information and Connecting Military Families to Needed Resources.

Closing Remarks.

Note: Exact order may vary.

Dated: April 3, 2017.
Aaron Siegel,
Alternate OSD Federal Register Liaison Officer, Department of Defense.

[FR Doc. 2017-06855 Filed 4-5-17; 8:45 am]

BILLING CODE 5001-06-P